OFFICE OF PERSONNEL MANAGEMENT

Revision of Information Collection: OPM Online Form 1417

AGENCY: Office of Personnel Management.

ACTION: 30-Day notice and request for comments.

SUMMARY: In accordance with the Paperwork Reduction Act of 1995 (Pub. L. 104-13, May 22, 1995), this notice announces that the Office of Personnel Management (OPM) intends to submit to the Office of Management and Budget (OMB) a request for clearance to revise an information collection. OPM Online Form 1417, the Combined Federal Campaign (CFC) Information System form, collects information from the 208 local CFC campaigns to verify campaign results and collect contact information. The proposed revisions remove data that is collected from other sources and incorporates new questions regarding the Federal employees who oversee the campaign at the local level. On February 7, 2011, we published a 60-day notice and request for comments. We received no comments.

We estimate 208 Online OPM Forms 1417 are completed annually. Each form takes approximately 30 minutes to complete. The annual estimated burden is 104 hours. The change in the estimated burden is the result of a reduction in the number of campaigns and the elimination of questions on local charity participation.

Comments are particularly invited on: Whether this information is necessary for the proper performance of functions of the Office of Personnel Management, and whether it will have practical utility; whether our estimate of the public burden of this collection of information is accurate, and based on valid assumptions and methodology; and ways in which we can minimize the burden of the collection of information on those who are to respond, through the appropriate use of technological collection techniques or other forms of information technology.

For copies of this proposal, contact Curtis Rumbaugh on (202) 606-2564, Fax (202) 606-5056 or e-mail to curtis.rumbaugh@opm.gov. Please be sure to include a mailing address with your request.

DATES: Comments on this proposal should be received within 30 calendar days from the date of this publication.

ADDRESSES: Send or deliver comments to: U.S. Office of Personnel Management, Office of Information and Regulatory Affairs, Office of Management Budget, 725 17th Street, NW., Washington, DC 20503, Attention: Desk Officer for the Office of Personnel Management, or send via electronic mail to oira_submission@omb.eop.gov or fax to (202) 395-6974.

John Berry,
Director.

[FR Doc. 2011-25905 Filed 10-5-11; 8:45 am]

BILLING CODE 6325-46-P